DEPARTMENT OF COMMERCE

International Trade Administration

A-588-854

Certain Tin Mill Products from Japan: Notice of Decision of the Court of International Trade

AGENCY: Import Administration, International Trade Administration, Department of Commerce.

EFFECTIVE DATE: September 13, 2002./P>

FOR FURTHER INFORMATION CONTACT: Michael Ferrier or Abdelali Elouaradia at (202) 482-1394 or (202) 482-1374, respectively; Antidumping and Countervailing Duty Enforcement Group III, Import Administration, International Trade Administration, U.S. Department of Commerce, 14th Street and Constitution Avenue, NW, Washington, DC 20230.

SUMMARY: On August 9, 2002, the United States Court of International Trade (“CIT” or “the Court”) entered a final judgement vacating the United States International Trade Commission's (“ITC” or “Commission”) determination finding that an industry in the United States is materially injured by reason of imports of the subject merchandise in the investigation of Tin and Chromium-Coated Steel Sheet From Japan. Inv. No. 731-TA-860, USITC Pub. 3300, 65 Fed. Reg. 50005 (August 16, 2000). The Court ordered the Commission to enter a negative determination. Nippon Steel Corporation, et al. v. United States, Slip Op. 02-86 (CIT August 9, 2002) (“Nippon II”). Consistent with the decision of the United States Court of Appeals for the Federal Circuit (Federal Circuit) in Timken Co. v. United States, 893 F.2d 337 (Fed. Cir. 1990) (“Timken”), the Department is notifying the public that Nippon II is “not in harmony” with the Commission's affirmative injury determination.

SUPPLEMENTARY INFORMATION:

Background

On June 26, 2000, the Department published in the Federal Register the notice of final determination of sales at less than fair value on certain tin mill products from Japan. See Notice of Final Determination of Sales at Less Than Fair Value: Certain Tin Mill Products From Japan, 65 FR 39364 (June 26, 2002). On August 28, 2000, following the Commission's final affirmative injury determination, the Department published in the Federal Register the antidumping duty order on certain tin mill products from Japan. See Notice of Antidumping Duty Order: Certain Tin Mill Products from Japan, 65 FR 52067 (August 28, 2000).

Nippon Steel Corporation, NKK Corporation, Kawasaki Steel Corporation, and Toyo Kohan Co., Ltd., respondents in the underlying investigation, filed a lawsuit with the CIT contesting the ITC's affirmative injury determination. The Court issued an Order and Opinion dated December 31, 2000, in Nippon Steel Corporation, et al. v. United States, 182 F. Supp. 2d 1330 (CIT 2000) (“Nippon I”), remanding the ITC's affirmative injury determination. On March 4, 2002, the ITC filed its affirmative injury remand determination. USITC Pub. 3493 (March 2002). On August 9, 2002, the CIT issued an opinion and judgement vacating the Commission's affirmative injury remand determination and directing the Commission to enter a negative determination. See Nippon II.

Timken Notice

In its decision in Timken, the Federal Circuit held that, pursuant to 19 U.S.C. 1516a(c), an agency must publish notice of a decision of the CIT or Federal Circuit which is “not in harmony” with the agency's determination. The CIT's decision in Nippon II is not in harmony with the Commission's final affirmative injury determination. Therefore, publication of this notice fulfills the obligation imposed by the decision in Timken. If this decision is not appealed, or if appealed, if it is upheld, the Commission will publish notice of a negative injury determination on tin and chromium-coated steel sheet from Japan.

Dated: September 6, 2002.
Faryar Shirzad,
Assistant Secretary for Import Administration.

[FR Doc. 02-23389 Filed 9-12-02; 8:45 am]

BILLING CODE 3510-DS-S